DEPARTMENT OF HEALTH AND HUMAN SERVICES

Substance Abuse and Mental Health Services Administration

Fiscal Year (FY) 2025 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting an administrative supplement in scope of the parent award for the one (1) eligible grant recipients funded in FY 2024 under the National Anti-Drug Coalitions Training and Workforce Development Cooperative Agreement (Short Title: Coalitions Training Cooperative Agreement), Notice of Funding Opportunity (NOFO) SP-24-003. The recipient may receive up to $300,000. This recipient has a project end date of September 29, 2029. The supplemental funding will be used to leverage existing resources to expand SAMHSA's youth-focused substance use prevention capacity to provide training and technical assistance to youth leaders who are members of anti-drug community coalitions from around the country and who are committed to addressing the evolving needs of the behavioral health field, thereby promoting youth engagement in substance use prevention workforce development opportunities. The recipient will use the funds to support development and implementation of a Substance Use Prevention Youth Summit in 2025-2026.

FOR FURTHER INFORMATION CONTACT: David Wilson, Public Health Analyst, Substance Abuse and Mental Health Services Administration, 5600 Fishers Lane, Rockville, MD 20857, telephone 240-276-2588; email: david.wilson@samhsa.hhs.gov.

SUPPLEMENTARY INFORMATION:

Funding Opportunity Title: FY 2024 National Anti-Drug Coalitions Training and Workforce Development Cooperative Agreement (Short Title: Coalitions Training Cooperative Agreement), Notice of Funding Opportunity (NOFO) SP-24-003.

Assistance Listing Number: 93.243.

Authority: Sections 509, 516, and 520A of the Public Health Service Act, as amended.

Justification: CADCA is the only national organization that provides training and technical assistance solely focused on community anti-drug coalitions annually through their national leadership conference and mid-year training institute. CADCA's reach of more than 5,000 community coalitions and long-history of training and technical assistance to thousands of members of community coalitions dedicated to preventing substance use means they are uniquely positioned to carry out the activities included in this supplemental funding. This is not a formal request for application. Assistance will only be provided to the one (1) Coalitions Training Cooperative Agreement grant recipient funded in FY 2024.

Dated: September 15, 2025.
Ann Ferrero,
Public Health Analyst.

[FR Doc. 2025-18029 Filed 9-17-25; 8:45 am]

BILLING CODE 4162-20-P